DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons who have been removed from OFAC's List of Specially Designated Nationals and Blocked Persons (SDN List).

DATES: This action was issued on July 9, 2025. See SUPPLEMENTARY INFORMATION for relevant dates.

FOR FURTHER INFORMATION CONTACT: OFAC: Associate Director for Global Targeting, 202-622-2420; Assistant Director for Licensing, 202-622-2480; the Assistant Director for Sanctions Compliance, 202-622-2490; or https://ofac.treasury.gov/contact-ofac.

SUPPLEMENTARY INFORMATION:

Electronic Availability

The SDN List and additional information concerning OFAC sanctions programs are available on OFAC's website: https://ofac.treasury.gov.

Notice of OFAC Actions

On July 9, 2025, OFAC has determined that circumstances no longer warrant the inclusion of the following person on the SDN List and their property and interests in property are no longer blocked pursuant to Executive Order 13224, as amended:

Entity

ACL ITHALAT IHRACAT (a.k.a. ACL GSM IMPORT EXPORT; a.k.a. ACL ITHALAT IHRACAT ISMAIL BAYALT; a.k.a. ACL ITHALAT IHRACAT ISMAIL BAYALTUN), No: 96 Dunya Is Merkezi 2 Kat, Sanliurfa, Turkey; Cengiz Topel Mah 2 Dun is Merk, Sanliurfa, Turkey; Yusufpasa Mah Dunya Is Merkeri Ctr, Sanliurfa 63000, Turkey; 96 Earth Business Center, 2nd Floor, Sanliurfa, Turkey; Secondary sanctions risk: section 1(b) of Executive Order 13224, as amended by Executive Order 13886 [SDGT] (Linked To: BAYALTUN, Ismail).

On July 9, 2025, OFAC has determined that circumstances no longer warrant the inclusion of the following person on the SDN List and their property and interests in property are no longer blocked pursuant to Executive Order 13315:

Individual

AL-SALIH, Muhammad Mahdi (a.k.a. SALEH, Mohammed Mahdi); DOB 1947; alt. DOB 1949; POB al-Anbar Governorate, Iraq; nationality Iraq; Minister of Trade (individual) [IRAQ2].

On July 9, 2025, OFAC has determined that circumstances no longer warrant the inclusion of the following persons on the SDN List and their property and interests in property are no longer blocked pursuant to Executive Order 13438:

Individual

AL-USTA, Raw'a (a.k.a. AL-ASTAH, Raw'ah; a.k.a. AL-OUSTA, Raw'a; a.k.a. ALOUSTA, Rawaa; a.k.a. AL-'USTA, Rawa; a.k.a. AL-USTA, Raw'ah; a.k.a. AL-USTAH, Raw'ah), Damascus, Syria; DOB 1982; nationality Syria (individual) [IRAQ3].

Entity

AL-RA'Y SATELLITE TELEVISION CHANNEL (a.k.a. AL RAIE TV CHANNEL; a.k.a. AL RA'Y SATELLITE TELEVISION STATION; a.k.a. AL RA'Y TV; a.k.a. AL-RA'I SATELLITE CHANNEL; a.k.a. AL-RA'Y SATELLITE CHANNEL; a.k.a. ARRAI TV; a.k.a. SATELLITE TELEVISION CHANNEL AL RA'Y; a.k.a. THE OPINION SATELLITE TELEVISION CHANNEL), Near Damascus in the Yaafur area, Syria; website www.arrai.tv; Email Address info@arrai.tv [IRAQ3].

Lisa M. Palluconi,
Acting Director, Office of Foreign Assets Control.

[FR Doc. 2025-16906 Filed 9-3-25; 8:45 am]

BILLING CODE 4810-AL-P